DEPARTMENT OF TRANSPORTATION

Pipeline and Hazardous Materials Safety Administration

49 CFR Parts 196 and 198

[Docket ID PHMSA-2009-0192]

RIN 2137-AE43

Pipeline Safety: Pipeline Damage Prevention Programs

AGENCY: Pipeline and Hazardous Materials Safety Administration (PHMSA); DOT.

ACTION: Notice of proposed rulemaking; Extension of comment period.

SUMMARY: On April 2, 2012, PHMSA published a Notice of Proposed Rulemaking (NPRM) seeking to revise the Pipeline Safety Regulations to: establish criteria and procedures for determining the adequacy of state pipeline excavation damage prevention law enforcement programs; establish an administrative process for making adequacy determinations; establish the Federal requirements PHMSA will enforce in states with inadequate excavation damage prevention law enforcement programs; and establish the adjudication process for administrative enforcement proceedings against excavators where Federal authority is exercised. PHMSA has received a request to extend the comment period to allow stakeholders more time to evaluate the NPRM. PHMSA has concurred in part with this request and has extended the comment period from June 1, 2012, to July 9, 2012.

DATES: The closing date for filing comments is extended to July 9, 2012.

ADDRESSES: Comments should reference Docket No. PHMSA-2009-0192 and may be submitted in the following ways:

• E-Gov Web site: http://www.regulations.gov. This Web site allows the public to enter comments on any Federal Register notice issued by any agency. Follow the instructions for submitting comments.

• Fax: 1-202-493-2251.

• Mail: DOT Docket Management System: U.S. DOT, Docket Operations, M-30, West Building Ground Floor, Room W12-140, 1200 New Jersey Avenue SE., Washington DC 20590-0001.

• Hand Delivery: DOT Docket Management System; West Building Ground Floor, Room W12-140, 1200 New Jersey Avenue SE., Washington, DC 20590-0001 between 9 a.m. and 5 p.m., Monday through Friday, except Federal holidays.

Instructions: You should identify the Docket No. PHMSA-2009-0192 at the beginning of your comments. If you submit your comments by mail, submit two copies. To receive confirmation that PHMSA received your comments, include a self-addressed stamped postcard. Internet users may submit comments at http://www.regulations.gov.

Note: Comments are posted without changes or edits to http://www.regulations.gov, including any personal information provided. There is a privacy statement published on http://www.regulations.gov.

FOR FURTHER INFORMATION CONTACT: For further information contact Sam Hall, Program Manager, PHMSA by email at sam.hall@dot.gov or by telephone at (804) 556-4678 or Larry White, Attorney Advisor, PHMSA by email at lawrence.white@dot.gov or by telephone at (202) 366-9093.

SUPPLEMENTARY INFORMATION: On April 2, 2012, PHMSA published a NPRM proposing to amend the Federal Pipeline Safety Regulations to establish criteria and procedures PHMSA will use to determine the adequacy of state pipeline excavation damage prevention law enforcement programs; establish an administrative process for states to contest notices of inadequacy from PHMSA should they elect to do so; establish the Federal requirements PHMSA will enforce in states with inadequate excavation damage prevention law enforcement programs; and establish the adjudication process for administrative enforcement proceedings against excavators where Federal authority is exercised. In the absence of regulations specifying the criteria that PHMSA will use to evaluate a state's excavation damage prevention law enforcement program, PHMSA would take no enforcement action.

On May 14, 2012, the National Utility Contractors Association (NUCA) requested that PHMSA extend the NPRM comment period deadline from June 1, 2012, to August 1, 2012, to give NUCA's members enough time to share the NPRM with their membership and chapters nationwide, and to collect their members' responses and comments for Docket submission.

PHMSA has concurred in part with NUCA's request and has extended the comment period from June 1, 2012, to July 9, 2012. This extension will provide sufficient additional time for commenters to submit their comments.

Issued in Washington, DC, on May 23, 2012.
Jeffrey D. Wiese,
Associate Administrator for Pipeline Safety.

[FR Doc. 2012-13025 Filed 5-29-12; 8:45 am]

BILLING CODE 4910-60-P